ENVIRONMENTAL PROTECTION AGENCY

[EPA-HQ-OPPT-2016-0597; FRL-9960-65]

Chemical Data Reporting; Requirements for Inorganic Byproduct Chemical Substances; Notice of Public Meeting

AGENCY: Environmental Protection Agency (EPA).

ACTION: Notice of public meeting.

SUMMARY: EPA is planning to establish a Negotiated Rulemaking Committee (Committee) under the Negotiated Rulemaking Act (NRA) as indicated in a Federal Register notice of December 15, 2016, and required by section 8(a)(6) of the Toxic Substances Control Act (TSCA), as amended by the Frank R. Lautenberg Chemical Safety for the 21st Century Act (Lautenberg Act). Prior to establishing the Committee, EPA is holding a public meeting with potential committee members and the public for the purpose of information exchange and to discuss the process of negotiated rulemaking. This notice announces the time and place of this meeting.

DATES: This public meeting will be held on May 9, 2017, from 9 a.m. to 5 p.m. and on May 10, 2017, from 9 a.m. to 3:00 p.m.

ADDRESSES: The meeting on May 9 and 10, 2017, will be held at Capital Hilton, General Session Room (South American AB), 1001 16th Street NW., Washington, DC 20036.

FOR FURTHER INFORMATION CONTACT: Any member of the public wishing to obtain information concerning the public meeting may contact Jonah Richmond, Designated Federal Officer (DFO), Conflict Prevention and Resolution Center, Office of General Counsel, 1200 Pennsylvania Ave. NW., Washington, DC 20460-0001; telephone number: (202) 564-0210; email address: Richmond.jonah@epa.gov.

For information on access or services for individuals with disabilities, or to request accommodation for a disability, please contact the DFO, preferably at least ten days prior to the meeting to give EPA as much time as possible to process your request.

Any updates concerning the meeting announced in this notice may be found at https://www.epa.gov/chemical-data-reporting/negotiated-rulemaking-committee-chemical-data-reporting-requirements.

For technical information contact: Susan Sharkey, Chemical Control Division (7405M), Office of Pollution Prevention and Toxics, Environmental Protection Agency, 1200 Pennsylvania Ave. NW., Washington, DC 20460-0001; telephone number: (202) 564-8789; email address: Sharkey.susan@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture (including manufacture as a byproduct chemical substance and including import) chemical substances listed on the TSCA Inventory. The following list of North American Industrial Classification System (NAICS) codes are not intended to be exhaustive, but rather provides a guide to help readers determine whether this action may apply to them:

1. Chemical manufacturers and importers (NAICS codes 325 and 324110; e.g., chemical manufacturing and processing and petroleum refineries).

2. Chemical users and processors who may manufacture a byproduct chemical substance (NAICS codes 22, 322, 331, and 3344; e.g., utilities, paper manufacturing, primary metal manufacturing, and semiconductor and other electronic component manufacturing).

If you have any questions regarding the applicability of this action to a particular entity, consult the technical person listed under FOR FURTHER INFORMATION CONTACT.

B. How can I get copies of this document and other related information?

The docket for this action, identified by docket identification (ID) number EPA-HQ-OPPT-2016-0597, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

Under section 8(a)(6) of TSCA, as amended by the Lautenberg Act, EPA is required to enter into a negotiated rulemaking providing for limiting chemical data reporting requirements for manufacturers of any inorganic byproduct chemical substances when such byproduct chemical substances are subsequently recycled, reused, or reprocessed. This negotiation process includes the establishment of a federal advisory committee. Prior to establishing the Committee, EPA is holding a public meeting with potential committee members and the public for the purpose of information exchange and to discuss the process of negotiated rulemaking as indicated in a Federal Register notice of December 15, 2016, (81 FR 90843) (FRL-9954-68). This notice announces the time and place of this meeting.

III. How can I request to participate in this meeting?

A. Attending the Meeting

EPA values public input during this process. The meeting announced in this notice will be open to the public, so interested parties may observe and communicate their views in the appropriate time and manner, as defined in the meeting agenda.

B. Oral Statements

In general, individuals or groups requesting an oral presentation at a public meeting will be limited to five minutes. Each person making an oral statement should consider providing written comments as well as their oral statement so that the points presented orally can be expanded upon in writing. Interested parties should submit requests by email to ecdrweb@epa.gov one week prior to the meeting date, in order to be placed on the list of public speakers.

C. Written Statements

Anyone may submit written statements; however, for timely consideration, statements should be supplied by email to ecdrweb@epa.gov one week prior to the meeting date. Members of the public should be aware that written comments, including personal contact information, if included, may be placed in the EPA docket supporting this activity. Copyrighted material will not be posted without explicit permission of the copyright holder.

IV. Meeting Agenda

A copy of the agenda for this meeting will be posted to https://www.epa.gov/chemical-data-reporting/negotiated-rulemaking-committee-chemical-data-reporting-requirements, as well as in the EPA docket supporting this activity (docket ID number EPA-HQ-OPPT-2016-0597).

Authority: 15 U.S.C. 2601 et seq.

Dated: April 20, 2017.
Wendy Cleland-Hamnett,
Acting Assistant Administrator, Office of Chemical Safety and Pollution Prevention.

[FR Doc. 2017-09178 Filed 5-4-17; 8:45 am]

BILLING CODE 6560-50-P